DEPARTMENT OF THE INTERIOR

Bureau of Indian Affairs

Draft Environmental Impact Statement (DEIS) for the Proposed Shu'luuk Wind Project on the Campo Indian Reservation in San Diego County, CA

AGENCY: Bureau of Indian Affairs, Interior.

ACTION: Notice of Availability.

SUMMARY: This notice advises the public that the Bureau of Indian Affairs (BIA) as lead Federal agency, with the Campo Band of Mission Indians (Tribe) as a cooperating agency, intends to file a DEIS with the U.S. Environmental Protection Agency (EPA) for the Proposed Shu'luuk Wind Project in San Diego County, California. This notice also advises the public that the DEIS is now available for public review and provides the date, time, and location of public meetings.

DATES: Written comments on the DEIS must arrive 45 days after EPA publishes its Notice of Availability in the Federal Register. Two public hearings will be held, one on January 29, 2013, and the other on January 30, 2013 from 6 p.m. to 9 p.m., and the BIA will accept written comments at the hearings and throughout the comment period. Oral comments will also be taken at each public hearing by a court reporter.

ADDRESSES: You may mail or hand-deliver written comments to Robert Eben, Superintendent, Southern California Agency, Bureau of Indian Affairs, 1451 Research Park Drive, Riverside, CA 92507. The January 29, 2013 public hearing will be held at the Alpine Community Center, 1830 Alpine Boulevard, Alpine, California. The January 30, 2013 public hearing will be held at the Campo Indian Reservation Tribal Hall, 31690 Church Road, Campo, California. See the SUPPLEMENTARY INFORMATION section of this notice for instructions on submitting comments and locations where the DEIS is available for review.

FOR FURTHER INFORMATION CONTACT: Lenore Lamb, Southern California Agency, Bureau of Indian Affairs, 1451 Research Park Drive, Riverside, CA 92507, telephone (951) 276-6625 (ext. 254).

SUPPLEMENTARY INFORMATION: Public review of the DEIS is part of the administrative process for the BIA evaluation of the lease between the Tribe and the developer to enable construction and operation of the proposed Shu'luuk Wind Project. Subsequent to the approval of the lease, a wind energy project would be developed on the Campo Indian Reservation in southeastern San Diego County, approximately 60 miles east of San Diego. A Notice of Intent to prepare the DEIS was published in the Federal Register on May 20, 2011. The BIA held public scoping meetings for the project environmental review on June 21, 2012, and June 22, 2012, at the Mountain Empire High School, 3305 Buckman Springs Road, Pine Valley, California, and the Campo Indian Reservation Tribal Hall, 31690 Church Road, Campo, California, respectively. Pursuant to Council on Environmental Quality (CEQ) National Environmental Policy Act (NEPA) regulations (40 CFR 1506.10), the publication of this Notice of Availability in the Federal Register initiates a 45-day public comment period.

Background: The proposed action consists of BIA approval of a lease between the Tribe and Invenergy Wind California, LLC to construct and operate a renewable energy facility for up to 35 years on the Campo Indian Reservation. The purpose of the project is to improve the economic conditions of the Campo Band and to provide environmental benefits for the San Diego region through the construction and operation of a renewable energy facility.

The project site is located on the Campo Indian Reservation in southeastern San Diego County, California. The lease area would be up to 900 acres, based on final project design, which is dependent upon which alternative is ultimately selected. The actual disturbance area would be less than the lease area. The project would be a wind energy project with one alternative that may include some solar energy generation. The approval of the lease would allow Invenergy, LLC to develop and operate a wind power generation facility capable of generating up to 250 MW of electricity, and would consist of up to 85 turbines, depending on which alternative is selected. Each of the four alternatives, with the exception of the No Action Alternative, would achieve the generation of electricity from wind turbines installed by Invenergy.

The manufacturer and model of the wind turbines have not yet been selected for the Shu'luuk Wind Project as the advancement in technology continues throughout the project site approval process. The turbines for the proposed project would have a tower hub height of up to 309 feet, a rotor diameter up to 414 feet, and a total height (to tip) of up to 515 feet. Each turbine would be set on a concrete foundation, and turbines would be connected by underground electrical cable to a project substation. The substation would be sited on a two-acre area and would consist of a graveled, fenced area containing transformer and switching equipment and an area for vehicle parking. Up to five miles of new three-phase 138 kV overhead interconnection transmission circuit would be constructed within the Campo Indian Reservation from the project collector substation to a San Diego Gas & Electric (SDG&E) pole located on private land. Other required facilities, all located within the Campo Indian Reservation, would include: up to three permanent meteorological towers; temporary material laydown areas during construction; temporary office areas; an operations and maintenance facility; approximately 25 miles of new access roads; approximately 22 miles of improved existing roads; an electrical collection and communications system; and a temporary concrete batch plant. The wind power generation facility would operate year-round for a minimum of 25 years. Construction of the proposed project is anticipated to take between 11 and 24 months depending on the alternative selected. In addition to the No Action Alternative, three alternatives are evaluated in the DEIS.

Alternative 1 consists of 250 MW generated from up to 85 3-MW wind turbines. Each turbine would have a hub height up to 309 feet, rotor diameter up to 414 feet, and tip height up to 515 feet.

Alternative 2 consists of 200 MW generated primarily from up to 80 2-MW wind turbines (totaling 160 MW from wind) in combination with up to 40 1-MW solar photovoltaic (PV) panels (totaling 40 MW from solar). Each turbine would generate 2 MW, have a hub height up to 305 feet, a rotor diameter up to 375 feet, and a tip height up to 493 feet.

Alternative 3 consists of 160 MW generated from up to 71 3-MW to 2.3-MW wind turbines. Each turbine would have a hub height of up to 308 feet, rotor diameter of up to 407 feet, and tip height of up to 515 feet.

Environmental issues addressed in this DEIS include effects on land resources, water resources, air quality, biological resources, climate change, cultural resources, socioeconomic conditions, resource use patterns, traffic, noise, visual and aesthetic resources, public health and safety, and cumulative effects.

Directions for Submitting Comments: Please include your name, return address, and “EIS Comments, Shu'luuk Wind Project, San Diego County, CA,” on the first page of your written comments.

Locations Where the DEIS is Available for Review: The DEIS is available for review at the Bureau of Indian Affairs Southern California office, 1451 Research Park Drive, Riverside, CA 92507; at the offices of Campo EPA, Suite 4, 36190 Church Rd, Campo, CA 91906; and at the Campo-Morena Village Branch Library, San Diego County Library System, 31356 Hwy 94, Campo, CA 91906. Comments can be submitted electronically to shuluukcomments@aecom.com. The DEIS is also available online at http://www.shuluukwind.com/. To obtain a compact disk copy of the DEIS please provide your name and address in writing or by voicemail to Lenore Lamb. Contact information is listed in the FOR FURTHER INFORMATION CONTACT section of this notice. Individual paper copies of the DEIS will be provided upon payment of applicable printing expenses by the requestor for the number of copies requested.

Public Comment Availability: Comments, including the names and addresses of respondents, will be available for public review at the BIA mailing address shown in the ADDRESSES section during regular business hours, 8 a.m. to 4:30 p.m., Monday through Friday excluding holidays. Before including your address, phone number, email address, or other personal identifying information in your comment, you should be aware that your entire comment—including your personal identifying information—may be made publicly available at any time. While you can ask us in your comment to withhold your personal identifying information from public review, we cannot guarantee that we will be able to do so.

Authority: This notice is published pursuant to Sec. 1503.1 of the CEQ Regulations (40 CFR parts 1500 through 1508) and Sec. 46.305 of the Department of Interior regulations (43 CFR part 46), implementing the procedural requirements of NEPA (42 U.S.C. 4371 et seq.), and is in the exercise of authority delegated to the Assistant Secretary—Indian Affairs by 209 DM 8.

Dated: October 12, 2012.
Kevin K. Washburn,
Assistant Secretary—Indian Affairs.

[FR Doc. 2013-00439 Filed 1-10-13; 8:45 am]

BILLING CODE 4310-W7-P